DEPARTMENT OF ENERGY

Federal Energy Regulatory Commission

Notice of Transfer of License and Soliciting Comments, Motions to Intervene, and Protests

January 17, 2001.

Take notice that the following application has been filed with the Commission and is available for public inspection:

a. Application Type: Transfer of License.

b. Project No: 2622-006.

c. Date Filed: December 12, 2000.

d. Applicants: International Paper Company (transferor) and Turners Falls Hydro LLC (transferee).

e. Name and Location of Project: The Turners Falls Hydroelectric Project is on the Connecticut River in Franklin County, Massachusetts. The project does not occupy federal or tribal land.

f. Filed Pursuant to: Federal Power Act, 16 U.S.C. 791(a)-825(r).

g. Applicant Contacts: For transferor: Mr. Michael Chapman, International Paper Company, 6400 Poplar Ave., Memphis, TN 38197, (901) 763-5888 and Mr. William J. Madden, Jr., Winston & Strawn, 1400 L Street, NW, Washington, DC 20005-3502, (202) 371-5700. For transferee: Mr. Peter B. Clark, Turners Falls Hydro LLC, P.O. Box 149A, 823 Bay Road, Hamilton, MA 01936 and Mr. John C. Hutchins, Kirkpatrick & Lockhart LLP, 75 State Street, Boston, MA 02109, (617) 951-9165.

h. FERC Contact: Any questions on this notice should be addressed to Tom Papsidero at (202) 219-2715.

i. Deadline for filing comments and/or motions: February 23, 2001.

All documents (original and eight copies) should be filed with: David P. Boergers, Secretary, Federal Energy Regulatory Commission, 888 First Street, NE, Washington, DC 20426. Comments and protests may be filed electronically via the internet in lieu of paper. See 18 CFR 385.2001(a)(1)(iii) and the instructions on the Commission's web site at http://www.ferc.fed.us/efi/doorbell.htm.

Please include the project number (P-2622-006) on any comments or motions filed.

j. Description of Proposal: The applicants propose a transfer of the license for Project No. 2622 from International Paper Company to Turners Falls Hydro LLC. Transfer is being sought in connection with the proposed sale of the project.

k. Locations of the application: A copy of the application is available for inspection and reproduction at the Commission's Public Reference Room, located at 888 First Street, NE, Room 2A, Washington, DC 20426, or by calling (202) 208-1371. The application may be viewed on the web at www.ferc.fed.us/online/rims.htm (Call (202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, N.E., Washington, D.C. 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-1925 Filed 1-22-01; 8:45 am]

BILLING CODE 6717-01-M